ENVIRONMENTAL PROTECTION AGENCY

[FRL-7824-1]

Notice of a Public Meeting for an Expert Panel Workshop on Lead Service Line Replacement

AGENCY: Environmental Protection Agency.

ACTION: Notice of public meeting.

SUMMARY: The U.S. Environmental Protection Agency (EPA) is convening an expert panel workshop to discuss issues associated with the Lead and Copper Rule (LCR). This workshop will examine and discuss potential issues associated with lead service line replacement including full and partial replacement programs, techniques, testing, sampling protocols, identification of lead service lines, and managing inventory.

DATES: The workshop on Lead Service Line Replacement will be held on Tuesday, October 26, 2004, from 8 a.m. to 5 p.m., Eastern time (ET) and Wednesday, October 27, 2004, from 8 a.m. to 1 p.m., ET.

ADDRESSES: The workshop will be held at the Atlanta Airport Marriott, 4711 Best Road College Park, GA 30337 USA.

FOR FURTHER INFORMATION CONTACT: To attend this workshop as an observer, please contact Donna Strahm at 503-223-3033 between 11 a.m. and 7 p.m. (ET), or by e-mail: donna.strahm@hdrinc.com. For administrative meeting information, call Brian Murphy, HDR/ Economic and Engineering Services, Inc., at 503-223-3033, or by e-mail brian.murphy@hdrinc.com. For technical information, contact Kylee Dewis, Office of Water, Office of Ground Water and Drinking Water, U.S. EPA, 1200 Pennsylvania Ave., NW., Mail Code 4607M, Washington, DC 20460, at 202-564-2072, or by e-mail at dewis.kylee@epa.gov.

SUPPLEMENTARY INFORMATION: Members of the public may attend as observers at the workshop and provide comments during 30-minute periods each on Tuesday and Wednesday. Individual comments should be limited to no more than 5 minutes. There is no charge for attending this workshop as an observer, but seats are limited, so register as soon as possible. Any person needing special accommodations at any of these meetings, including wheelchair access, should make this known at the time of registration.

Dated: September 28, 2004.
Cynthia C. Dougherty,
Director, Office of Ground Water and Drinking Water.

[FR Doc. 04-22238 Filed 10-1-04; 8:45 am]

BILLING CODE 6560-50-P